DEPARTMENT OF THE INTERIOR

National Park Service

[NPS-WASO-NRNHL-DTS#-28391; PPWOCRADI0, PCU00RP14.R50000]

National Register of Historic Places; Notification of Pending Nominations and Related Actions

AGENCY: National Park Service, Interior.

ACTION: Notice.

SUMMARY: The National Park Service is soliciting comments on the significance of properties nominated before July 6, 2019, for listing or related actions in the National Register of Historic Places.

DATES: Comments should be submitted by August 5, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before July 6, 2019, Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

MASSACHUSETTS

Barnstable County

Cataumet Schoolhouse, 1200 Cty. Rd., Bourne, SG100004268.

Essex County

Beverly Powder House, Rear Madison Ave., Beverly, SG100004267.

Middlesex County

North Acton Cemetery, Carlisle Rd. & North St., Acton, SG100004269.

MISSOURI

Mississippi County

McCutchen Theatre, 106 E Commercial St., Charleston, SG100004271.

NEW YORK

Monroe County

Koda-Vista Historic District, Hoover & Vista Drs., Merrick, Allerton, Hammond, Maiden, Acton, Ayer & Elmguard Sts., portion of West Ridge Rd., Greece, SG100004270.

WISCONSIN

Monroe County

St. Lucas Evangelical German Lutheran Church and Cemetery, 30013 Oxford Rd., Glendale, SG100004276.

Authority: Section 60.13 of 36 CFR part 60.

Dated: July 8, 2019.
Julie H. Ernstein,
Acting Chief, National Register of Historic Places/National Historic Landmarks Program.

[FR Doc. 2019-15396 Filed 7-18-19; 8:45 am]

BILLING CODE 4312-52-P